DEPARTMENT OF TRANSPORTATION

National Highway Traffic Safety Administration

[Docket No. NHTSA-2015-0047]

Public Hearing To Determine Whether Fiat Chrysler Has Reasonably Met Its Obligations To Remedy Recalled Vehicles and To Notify NHTSA, Owners, and Purchasers of Recalls

AGENCY: National Highway Traffic Safety Administration (NHTSA), DOT.

ACTION: Notice of public hearing.

SUMMARY: NHTSA will hold a public hearing on whether Fiat Chrysler Automobiles US LLC (Fiat Chrysler) has reasonably met its obligations to remedy recalled vehicles and to notify NHTSA, owners, and purchasers of recalls.

DATES: The public hearing will be held beginning at 10 a.m. ET on July 2, 2015, at the U.S. Department of Transportation, 1200 New Jersey Avenue SE., Washington, DC 20590. If you wish to attend or speak at the hearing, you must register in advance no later than June 30, 2015 (and June 26, 2015, for non-U.S. citizens), by following the instructions in the Procedural Matters section of this notice. NHTSA will consider late registrants to the extent time and space allows, but cannot ensure that late registrants will be able to attend or speak at the hearing. To ensure that NHTSA has an opportunity to consider comments, NHTSA must receive written comments by June 23, 2015.

ADDRESSES: You may submit comments to the docket number identified in the heading of this document by any of the following methods:

• Federal eRulemaking Portal: go to http://www.regulations.gov. Follow the online instructions for submitting comments.

• Mail: Docket Management Facility, M-30, U.S. Department of Transportation, West Building, Ground Floor, Rm. W12-140, 1200 New Jersey Avenue SE., Washington, DC 20590.

• Hand Delivery or Courier: West Building Ground Floor, Room W12-140, 1200 New Jersey Avenue SE., between 9 a.m. and 5 p.m. ET, Monday through Friday, except Federal holidays.

• Fax: (202) 493-2251.

Regardless of how you submit your comments, you should mention the docket number of this document.

You may call the Docket office at 202-366-9324.

Note that all comments received will be posted without change to http://www.regulations.gov, including any personal information provided.

FOR FURTHER INFORMATION CONTACT: For registration to attend or speak at the public hearing: Carla Bridges, National Highway Traffic Safety Administration, 1200 New Jersey Avenue SE., Washington, DC 20590 (Telephone: 202-366-2992) (Fax: 202-366-3820). For hearing procedures: Justine Casselle, Office of the Chief Counsel, National Highway Traffic Safety Administration, 1200 New Jersey Avenue SE., Washington, DC 20590 (Telephone: 202-366-2992) (Fax: 202-366-3820). Information regarding recalls is available on NHTSA's Web site: http://www.safercar.gov. To find recalls by NHTSA Recall Number: (1) In the drop-down menu in the lower right-hand corner for “Shortcut search for a recall,” select “by Campaign ID Number”; (2) click “Go”; (3) select the box for “Recalls”; (3) enter the recall number; and (4) click “GO.”

SUPPLEMENTARY INFORMATION: NHTSA has substantial concerns about the significant safety hazards posed to consumers in connection with Fiat Chrysler's administration and execution of its recalls. Pursuant to 49 U.S.C. 30118(e) and 30120(e), and 49 CFR 557.6(d) and 557.7, NHTSA has decided to hold a public hearing on whether Fiat Chrysler has reasonably met its obligations under the National Traffic and Motor Vehicle Safety Act, as amended (Safety Act), to remedy recalled vehicles and to provide notifications regarding its recalls.

The public hearing may address recalls including NHTSA Recall Nos. 13V-038, 13V-252, 13V-527, 13V-528, 13V-529, 14V-373, 14V-391, 14V-438, 14V-567, 14V-634, 14V-749, 14V-795, 14V-796, 14V-817, 15V-041, 15V-046, 15V-090, 15V-114, 15V-115, and 15V-178. The recall campaigns are to address the following:

1. Loosening of the rear axle pinion nut causing loss of vehicle control (13V-038);

2. Rear fuel tank structure's risk of failure (13V-252);

3. Failure of the left tie rod assembly resulting in loss of steering control (13V-527);

4. Failure of the left tie rod assembly resulting in loss of steering control (13V-528);

5. Failure of the left tie rod assembly resulting in loss of steering control (13V-529);

6. Inadvertent ignition switch movement turning off the engine (14V-373);

7. Vanity lamp wiring shortages resulting in fire (14V-391);

8. Inadvertent ignition switch movement turning off the engine (14V-438);

9. Inadvertent ignition switch movement turning off the engine (14V-567);

10. Sudden failure of the alternator (14V-634);

11. Inoperative instrument cluster causing vehicle failure (14V-749);

12. Broken springs in the clutch ignition interlock switch (14V-795);

13. Loosening of the rear axle pinion nut causing loss of vehicle control (14V-796);

14. Potential air bag inflator rupture with metal fragments causing serious injury (14V-817);

15. Unintended air bag deployment during vehicle operation (15V-041);

16. Unintended air bag deployment during vehicle operation (15V-046);

17. Contaminated, dislodged or broken parking pawl or park rod (15V-090);

18. Fuel leak near an ignition source (15V-114);

19. Fuel pump relay causing a vehicle to stall without warning (15V-115); and,

20. Driver and passenger side door latch failure (15V-178).

Based on information presented at the public hearing and other available information, NHTSA may issue an order that could include a finding that Fiat Chrysler failed to carry out its recall requirements under the Safety Act and requiring Fiat Chrysler to take specific actions to comply with the law.

Any interested person may make written and/or oral presentations of information, views, and arguments on whether Fiat Chrysler has reasonably met the remedy and/or notification requirements. There will be no cross-examination of witnesses. 49 CFR 557.7.

NHTSA will consider the views of participants in deciding whether Fiat Chrysler has reasonably met the notification and/or remedy requirements under 49 U.S.C. 30118 and 30120, and in developing the terms of an order (if any) requiring Fiat Chrysler to take specified action as the remedy for the recalls and/or take other action. 49 U.S.C. 30118(e), 30120(e); 49 CFR 557.8.

Procedural Matters: Interested persons may participate in these proceedings through written and/or oral presentations. Persons wishing to attend must notify Carla Bridges, National Highway Traffic Safety Administration, 1200 New Jersey Avenue SE., Washington, DC 20590 (Telephone: 202-366-2992) (Fax: 202-366-3820), before the close of business on June 30, 2015 (and June 26, 2015, for non-U.S. citizens). Each person wishing to attend must provide his or her name and country of citizenship. Non-U.S. citizens must also provide date of birth, title or position, and passport or diplomatic ID number, along with expiration date. Each person wishing to make an oral presentation must also specify the amount of time that the presentation is expected to last, his or her organizational affiliation, phone number, and email address. NHTSA will prepare a schedule of presentations. Depending upon the number of persons who wish to make oral presentations and the anticipated length of those presentations, NHTSA may limit the length of oral presentations.

For security purposes, photo identification is required to enter the U.S. Department of Transportation building. To allow sufficient time to clear security and enter the building, NHTSA recommends that hearing participants arrive 30 to 60 minutes prior to the start of the public hearing.

The hearing will be held at a site accessible to individuals with disabilities. Individuals who require accommodations, such as sign language interpreters, should contact Ms. Justine Casselle using the contact information in the FOR FURTHER INFORMATION CONTACT section above no later than June 24, 2015. A transcript of the proceedings will be placed in the docket for this notice at a later date.

Persons who wish to file written comments should submit them so that they are received by NHTSA no later than June 23, 2015. Instructions on how to submit written comments to the docket is located under the ADDRESSES section of this notice.

Authority: 49 U.S.C. 30118(e), 30120(e); 49 CFR 557.6(d), 557.7; delegations of authority at 49 CFR 1.95(a) and 501.2(a)(1).

Dated: May 18, 2015.
Mark R. Rosekind,
Administrator.

[FR Doc. 2015-12386 Filed 5-21-15; 8:45 am]

BILLING CODE 4910-59-P